DEPARTMENT OF COMMERCE

National Oceanic and Atmospheric Administration

50 CFR Part 648

[Docket No. 100120036-0360-02]

RIN 0648-XT99

Fisheries of the Northeastern United States; Black Sea Bass Fishery; 2010 Black Sea Bass Specifications; Emergency Rule Extension; Correction

AGENCY: National Marine Fisheries Service (NMFS), National Oceanic and Atmospheric Administration (NOAA), Commerce.

ACTION: Temporary rule; correction.

SUMMARY: On July 7, 2010, NMFS published in the Federal Register a temporary rule to extend the emergency action to increase the 2010 black sea bass specifications. The preamble text of that rule incorrectly identified the revised commercial quota and recreational harvest limit (RHL) based on the increased 2010 black sea bass total allowable landings (TAL). This document corrects those values to ensure that they are consistent with the revised 2010 black sea bass specifications.

DATES: Effective August 10, 2010, through December 31, 2010.

FOR FURTHER INFORMATION CONTACT: Sarah Heil, Fishery Management Specialist, (978) 281-9257.

SUPPLEMENTARY INFORMATION: A temporary rule to extend the emergency action to increase the 2010 black sea bass specifications was published in the Federal Register on July 7, 2010 (75 FR 38935). On page 38935 of that rule, the commercial quota is incorrectly listed as 1,813,000 lb (822 (mt), and the RHL is listed as 1,887,000 lb (856 mt). The corrected values for these specifications are as follows: The commercial quota is 1,758,610 lb (798 mt) and the RHL is 1,830,390 lb (830 mt).

Classification

Pursuant to 5 U.S.C. 553(b)(B), the Assistant Administrator (AA) for NOAA, Fisheries finds good cause to waive prior notice and opportunity for additional public comment for this action because any delay of this action would be contrary to the public interest. This rule corrects the commercial quota and RHL values published in the Federal Register on July 7, 2010 (75 FR 38935), as part of the extension to the emergency rule to increase the 2010 black sea bass specifications. The measures in the extension to the emergency rule, published in the Federal Register on July 7, 2010, were intended to be the same as those published in the initial emergency action on February 10, 2010 (75 FR 6586). However, the extension to the emergency rule incorrectly identified the revised commercial quota and RHL values based on the increased 2010 black sea bass TAL. To delay this correction notice would cause confusion over the revised 2010 black sea bass specifications because of the disparity between the revised specifications and the commercial quota and RHL values that were incorrectly identified in the extension to the emergency rule. Immediate publication of the corrected commercial quota and RHL will rectify any confusion on the revised 2010 black sea bass specifications. For the reasons provided above, the AA also finds good cause, pursuant to 5 U.S.C. 553(d)(3), to waive the 30-day delayed effective period for this correction.

Because prior notice and opportunity for public comment are not required for this rule by 5 U.S.C. 553, or any other law, the analytical requirements of the Regulatory Flexibility Act, 5 U.S.C. 601 et seq., are inapplicable.

This final rule is exempt from review under Executive Order 12866.

Correction

Accordingly, the final rule FR Doc. 2010-16498, published on July 7, 2010 (75 FR 38935), is corrected as follows:

1. On page 38935, In the second column, in the first full paragraph, in the twentieth line, “1,813,000 lb (822 mt),” is corrected to read “1,758,610 lb (798 mt),” and in the twenty-second line, “1,887,000 lb (856 mt),” is corrected to read “1,830,390 lb (830 mt),”.

Dated: September 21, 2010.
Samuel D. Rauch III,
Deputy Assistant Administrator for Regulatory Programs, National Marine Fisheries Service.

[FR Doc. 2010-24219 Filed 9-24-10; 8:45 am]

BILLING CODE 3510-22-S